DEPARTMENT OF TRANSPORTATION

Federal Aviation Administration

[Docket No. FAA-2019-0748]

Agency Information Collection Activities: Requests for Comments; Clearance of a Renewed Approval of Information Collection: Helicopter Air Ambulance, Commercial Helicopter, and Part 91 Helicopter Operations

AGENCY: Federal Aviation Administration (FAA), DOT.

ACTION: Notice and request for comments.

SUMMARY: In accordance with the Paperwork Reduction Act of 1995, FAA invites public comments about our intention to request the Office of Management and Budget (OMB) approval to renew an information collection. The collection involves the collection of information related to rules governing Helicopter Air Ambulance, Commercial Helicopter, and Part 91 Helicopter Operations. The information to be collected supports the Department of Transportation's strategic goal of safety. Specifically, the goal is to promote the public health and safety by working toward the elimination of transportation-related deaths and injuries.

DATES: Written comments should be submitted by November 18, 2019.

ADDRESSES: Please send written comments:

By Electronic Docket: www.regulations.gov (Enter docket number into search field).

By Mail: Sandra Ray, Federal Aviation Administration, Policy Integration Branch AFS-270, 1187 Thorn Run Road, Suite 200, Coraopolis, PA 15108.

By Fax: 412-239-3063.

FOR FURTHER INFORMATION CONTACT: Thomas Luipersbeck by email at: Thomas.A.Luipersbeck@faa.gov; phone: 615-202-9683.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0756.

Title: Helicopter Air Ambulance, Commercial Helicopter, and Part 91 Helicopter Operations.

Form Numbers: 2120-0756, Helicopter Air Ambulance Mandatory Flight Information Report.

Type of Review: Renewal of an information collection.

Background: These requirements in part 135 are addressed specifically to helicopter air ambulances, often referred to as emergency medical services (EMS), and to on-demand operations including overwater operations. The National Transportation Safety Board recommended several changes following accident investigations. The FAA aims to improve the safety record of helicopter air ambulances through better oversight of their operations. The FAA will use the information it collects and reviews to ensure compliance and adherence with regulations and, if necessary, to take enforcement action on violators of the regulations.

Under the authority of Title 49 CFR, Section 44701, Title 14 CFR prescribes the terms, conditions, and limitations as are necessary to ensure safety in air transportation. Title 14 CFR parts 91 and 135 prescribes the requirements governing helicopter air ambulance, commercial helicopter, and Part 91 helicopter operations. The information collected is used to determine air operators' compliance with the minimum safety standards and the applicants' eligibility for air operations certification. Each operator which seeks to obtain, or is in possession of an operating certificate, must comply with the requirements of part 91 or 135, as applicable, which include maintaining data which is used to determine if the air carrier is operating in accordance with minimum safety standards.

Respondents: Part 135 Helicopter Air Ambulance Operators, Part 135 Helicopter Commercial Operators, or Part 91 Helicopter Operators.

Frequency: On Occasion.

Estimated Average Burden per Response: Varies by Response Type.

Estimated Total Annual Burden: 132,639 Hours.

Issued in Washington, DC, on September 12, 2019.
Sandra L. Ray,
Aviation Safety Inspector, FAA, Policy Integration Branch, AFS-270.

[FR Doc. 2019-20072 Filed 9-16-19; 8:45 am]

BILLING CODE 4910-13-P